POSTAL SERVICE

Product Change—Priority Mail Express, Priority Mail, and USPS Ground Advantage Negotiated Service Agreements; Priority Mail and USPS Ground Advantage Negotiated Service Agreements; Priority Mail Express, Priority Mail, USPS Ground Advantage, and Parcel Select Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: November 12, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and No. | MC docket No. | K docket No.
10/31/25 | PME-PM-GA-PS 6 | MC2026-73 | K2026-73
11/03/25 | PME-PM-GA 1454 | MC2026-74 | K2026-74
11/03/25 | PME-PM-GA 1455 | MC2026-75 | K2026-75
11/03/25 | PM-GA 904 | MC2026-76 | K2026-76
11/03/25 | PME-PM-GA 1456 | MC2026-78 | K2026-78
11/04/25 | PM-GA 905 | MC2026-79 | K2026-79
11/04/25 | PM-GA 906 | MC2026-80 | K2026-80
11/04/25 | PM-GA 907 | MC2026-81 | K2026-81
11/05/25 | PM-GA 908 | MC2026-82 | K2026-82
11/05/25 | PM-GA 909 | MC2026-83 | K2026-83
11/05/25 | PM-GA 910 | MC2026-84 | K2026-84
11/05/25 | PM-GA 911 | MC2026-85 | K2026-85
11/06/25 | PME-PM-GA 1457 | MC2026-86 | K2026-86
11/06/25 | PM-GA 912 | MC2026-87 | K2026-87

Documents are available at www.prc.gov.

Colleen Hibbert-Kapler,
Attorney, Ethics and Legal Compliance.

[FR Doc. 2025-19842 Filed 11-10-25; 8:45 am]

BILLING CODE 7710-12-P